DEPARTMENT OF DEFENSE

Office of the Secretary

Submission for OMB Review; Comment Request

ACTION: Notice.

The Department of Defense will submit to OMB for emergency processing, the following proposal for collection of information under the provisions of the Paperwork Reduction Act (44 U.S.C. Chapter 35). The Office of the Assistant Secretary of Defense for Health Affairs/TRICARE Management Activity announces a proposed new public information collection and seeks public comment on the provisions thereof. Comments are invited on: (a) Whether the proposed collection of information is necessary for the proper performance of the functions of the agency, including whether the information has practical utility; (b) the accuracy of the agency's estimate of the burden of the information collection; (c) ways to enhance the quality, utility, and clarity of the information to be collected; and, (d) ways to minimize the burden of the information collection on respondents, including through the use of automated collection techniques or other forms of information technology.

Title and OMB Number: Pharmacy Redesign Pilot Program; OMB Number 0720-[To Be Determined].

Type of Request: New Collection; Emergency processing requested with a shortened public comment period ending March 7, 2000. An approval date of March 15, 2000, has been requested.

Number of Respondents: 2,000.

Responses Per Respondent: 1.

Annual Responses & Prime: 2,000.

Average Burden Per Response: 10 minutes.

Annual Burden Hours: 333.

Needs and Uses: This collection instrument serves as an application form for enrollment in the TRICARE Pharmacy Redesign Pilot Program. The information collected will be used to provide the Managed Care Support Contractors, contracted to supply administrative support, with the data to determine beneficiary eligibility, other health insurance liability, and premium payment. The Fiscal Year 1999 Strom Thurmond National Defense Authorization Act (Public Law 105-261) directed the Department of Defense to develop a system-wide pharmacy redesign plan and to implement the redesigned benefit at two sites for Medicare-eligible beneficiaries. The pharmacy redesign implementation will be evaluated by an independent entity outside the Department of Defense. An eligible beneficiary for the pharmacy redesign demonstration is a member or former member of the uniformed services as described in section 1074(b) of Title 10; a dependent of the member described in section 1076(a)(2)(B) or 1076(b) of Title 10; or a dependent of a member of the uniformed services who died while on active duty for a period of more than 30 days, who meets the following requirements: (a) 65 years of age or older, (b) entitled to Medicare Part A, (c) enrolled in Medicare Part B, and (d) resides in the implementation area.

Affected Public: Individuals or Households.

Frequency: On Occasion and Annually.

Respondent's Obligation: Required to Obtain or Retain Benefits.

OMB Desk Officer: Ms. Allison Eydt.

Written comments and recommendations on the proposed information collection should be sent to Ms. Eydt at the Office of Management and Budget, Desk Officer for D0D (Health Affairs), Room 10235, New Executive Office Building, Washington, DC 20503.

DOD Clearance Officer: Mr. Robert Cushing.

Written requests for copies of the information collection proposal should be sent to Mr. Cushing, WHS/DIOR, 1215 Jefferson Davis Highway, Suite 1204, Arlington, VA 22202-4302, or by fax at (703) 604-6270.

Dated: February 14, 2000.
Patricia L. Toppings,
Alternate OSD Federal Register Liaison Officer, Department of Defense.

[FR Doc. 00-4094 Filed 2-18-00; 8:45 am]

BILLING CODE 5001-10-M